DEPARTMENT OF STATE

[Public Notice 3548]

Shipping Coordinating Committee; United Nations Educational, Scientific and Cultural Organization Draft Convention on Underwater Cultural Heritage; Notice of Meeting

The Shipping Coordinating Committee will hold a meeting on March 14, 2001 from 2:00 pm to 5:00 pm to obtain public comment on issues to be addressed at the March 26-April 6, 2001 United Nations Educational, Scientific and Cultural Organization (UNESCO) meeting of governmental experts on the draft Convention on Underwater Cultural Heritage.

The meeting will be held in the Department of State located at 2201 C Street, NW., Washington, DC 20520, Room 1207. Interested members of the public are invited to attend, up to the capacity of the room. To expedite entry into the Department of State, please provide your name, social security number, and date of birth to Yvonne Seward (202) 647-3262, at least one week prior to the meeting. To enter the building you must present a photo ID, such as a driving license or passport. Please use the entrance to the Department of State on C Street.

For further information, please contact Mr. Harlan Cohen, Office of Oceans Affairs, telephone (202) 647-0237.

Dated: February 15, 2001.
Stephen M. Miller,
Executive Secretary, Shipping Coordinating Committee, U.S. Department of State.

[FR Doc. 01-5763 Filed 3-7-01; 8:45 am]

BILLING CODE 4710-07-U